DEPARTMENT OF COMMERCE

International Trade Administration

[A-421-811]

Purified Carboxymethylcellulose From the Netherlands: Final Results of Antidumping Duty Administrative Review; 2012-2013

AGENCY: Enforcement and Compliance, International Trade Administration, Department of Commerce.

SUMMARY: On August 21, 2014, the Department of Commerce (the Department) published the preliminary results of the administrative review of the antidumping duty (AD) order on purified carboxymethylcellulose (CMC) from the Netherlands.¹ We invited interested parties to comment on the Preliminary Results. We received no comments or requests for a hearing. Therefore, for the final results, we continue to find that sales of subject merchandise by Akzo Nobel Functional Chemicals, B.V. (Akzo Nobel) were not made at less than normal value during the period of review (POR).

¹ See Purified Carboxymethylcellulose From the Netherlands: Preliminary Results of Antidumping Duty Administrative Review; 2012-2013, 79 FR 49494 (August 21, 2014) (Preliminary Results).

DATES: Effective Date: December 30, 2014.

FOR FURTHER INFORMATION CONTACT: Ericka Ukrow or Angelica Mendoza, AD/CVD Operations, Office VI, Enforcement and Compliance, International Trade Administration, U.S. Department of Commerce, 14th Street and Constitution Avenue NW., Washington, DC 20230; telephone: (202) 482-0405, and (202) 482-3019, respectively.

Background

On August 21, 2014, the Department published the Preliminary Results. The POR is July 1, 2012 through June 30, 2013. We invited interested parties to comment on the Preliminary Results. We received no comments or requests for a hearing. The Department conducted this administrative review in accordance with section 751(a)(2) of the Tariff Act of 1930, as amended (the Act).

Scope of the Order

The product covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent.

The merchandise subject to the order is currently classified in the Harmonized Tariff Schedule of the United States at subheading 3912.31.00. This tariff classification is provided for convenience and Customs purposes; however, the written description of the scope of the order is dispositive.

Final Results of Review

As noted above, the Department received no comments concerning the Preliminary Results on the record of this segment of the proceeding. As there are no changes from, or comments upon, the Preliminary Results, the Department finds that there is no reason to modify its analysis. Thus, we continue to find that sales of subject merchandise by Akzo Nobel were not made at less than normal value during the POR. Accordingly, no decision memorandum accompanies this Federal Register notice. For further details of the issues addressed in this proceeding, see the Preliminary Results and the accompanying Preliminary Decision Memorandum.² The final weighted-average dumping margin for the period July 1, 2012, through June 30, 2013 for Akzo Nobel is as follows:

² See “Decision Memorandum for Preliminary Results of Antidumping Duty Administrative: Purified Carboxymethylcellulose from the Netherlands,” from Christian Marsh, Deputy Assistant Secretary for Antidumping and Countervailing Duty Operations, to Ronald K. Lorentzen, Acting Assistant Secretary for Enforcement and Compliance, dated August 14, 2014 (Preliminary Decision Memorandum), which can be accessed directly at http://enforcement.trade.gov/frn/.

Producer/Exporter | Weighted- average margin (percentage)
Akzo Nobel Functional Chemicals B.V. | 0.00

Assessment Rates

The Department will determine, and U.S. Customs and Border Protection (CBP) shall assess, antidumping duties on all appropriate entries in this review, in accordance with 19 CFR 351.212(b). The Department intends to issue assessment instructions directly to CBP 15 days after publication of these final results of review. Because we have calculated a zero margin for Akzo Nobel in the final results of this review, we will instruct CBP to liquidate the appropriate entries without regard to antidumping duties.

The Department clarified its “automatic assessment” regulation on May 6, 2003.³ This clarification applies to entries of subject merchandise during the POR produced and exported by Akzo Nobel for which it did not know that the merchandise was destined for the United States. In such instances, we will instruct CBP to liquidate unreviewed entries at the all-others rate effective during the POR if there is no rate for the intermediate company(ies) involved in the transaction.⁴

³ See Antidumping and Countervailing Duty Proceedings: Assessment of Antidumping Duties, 68 FR 23954 (May 6, 2003) (Assessment Policy Notice).

⁴ See Assessment Policy Notice for a full discussion of this clarification.

Cash Deposit Requirements

The following cash deposit requirements will be effective upon publication of the final results of this administrative review for all shipments of the subject merchandise entered, or withdrawn from warehouse, for consumption on or after the publication date, as provided for by section 751(a)(2)(C) of the Act: (1) The cash deposit rate for Akzo Nobel will be the rate established in the final results of this review; (2) for previously reviewed or investigated companies not covered in this review, the cash deposit rate will continue to be the company-specific rate published for the most recent period; (3) if the exporter is not a firm covered in this or any previous review or in the less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 14.57 percent, which is the all-others rate established by the Department in the LTFV investigation.⁵ These cash deposit requirements, when imposed, shall remain in effect until further notice.

⁵ See Notice of Antidumping Duty Orders: Purified Carboxymethylcellulose from Finland, Mexico, the Netherlands and Sweden, 70 FR 39734, 39735 (July 11, 2005).

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Act.

Dated: December 18, 2014.
Ronald K. Lorentzen,
Acting Assistant Secretary for Enforcement and Compliance.

[FR Doc. 2014-30547 Filed 12-29-14; 8:45 am]

BILLING CODE 3510-DS-P